DEPARTMENT OF AGRICULTURE

Animal and Plant Health Inspection Service

[Docket No. 00-114-1]

General Conference Committee of the National Poultry Improvement Plan; Meeting

AGENCY: Animal and Plant Health Inspection Service, USDA.

ACTION: Notice of meeting.

SUMMARY: We are giving notice of a meeting of the General Conference Committee of the National Poultry Improvement Plan.

DATES: The General Conference Committee will meet on December 12, 2000, from 9:00 a.m. to 4 p.m. and on December 13, 2000, from 8:00 a.m. to noon.

ADDRESSES: On December 12, 2000, the meeting will be held at the USDA South Building, 14th Street and Independence Avenue SW., Room 3501, Washington, DC; and on December 13, 2000, at the USDA Center at Riverside, 4700 River Road, Room 2D02CN, Riverdale, MD.

FOR FURTHER INFORMATION CONTACT: Mr. Andrew R. Rhorer, Senior Coordinator, National Poultry Improvement Plan, VS, APHIS, 1498 Klondike Road, Suite 200, Conyers, GA 30094-1231; (770) 922-3496.

SUPPLEMENTARY INFORMATION: The General Conference Committee (the Committee) of the National Poultry Improvement Plan, representing cooperating State agencies and poultry industry members, serves an essential function by acting as liaison between the poultry industry and the Department in matters pertaining to poultry health.

Topics for discussion at the upcoming meeting include:

1. U.S. Salmonella Clean program for meat-type chicken breeding flocks.

2. Mycoplasma gallisepticum epidemiology update.

3. Proposed changes to the provisions of the National Poultry Improvement Plan.

4. Salmonella enteritidis in egg-type chicken breeding flocks.

The meeting will be open to the public. However, due to time constraints, the public will not be allowed to participate in the discussions during the meeting. Written statements on meeting topics may be filed with the Committee before or after the meeting by sending them to the person listed under FOR FURTHER INFORMATION CONTACT. Written statements may also be filed at the meeting. Please refer to Docket No. 00-114-1 when submitting your statements.

This notice of meeting is given pursuant to section 10 of the Federal Advisory Committee Act.

Done in Washington, DC, this 21st day of November 2000.
Bobby R. Acord,
Acting Administrator, Animal and Plant Health Inspection Service.

[FR Doc. 00-30598 Filed 11-30-00; 8:45 am]

BILLING CODE 3410-34-P